OFFICE OF THE UNITED STATES TRADE REPRESENTATIVE

Technical Corrections to the Harmonized Tariff Schedule of the United States

AGENCY: Office of the United States Trade Representative

ACTION: Notice.

SUMMARY: Pursuant to authority delegated to the United States Trade Representative (“USTR”) in Presidential Proclamation 6969 of January 27, 1997 (62 FR 4415), USTR is making technical corrections to general note 12(t) and chapters 29, 42, 64, 98, and 99 of the Harmonized Tariff Schedule of the United States (“HTS”), as set forth in the annex to this notice. These modifications correct inadvertent errors and omissions, so that the intended tariff treatment is provided, in: (1) The rules of origin for certain goods of chapter 34 under the North American Free Trade Agreement (“NAFTA”); (2) the tariff provisions previously proclaimed in chapter 29 to cover particular chemical products; (3) chapter 42 for goods of beneficiary countries of the Andean Trade Preference Act; (4) the named subheadings of heading 6406 of the HTS for goods of Jordan; (5) note 3(b) to subchapter XIX of chapter 98 for textile and apparel goods eligible for special tariff benefits under the African Growth and Opportunity Act; (6) note 3(b) to subchapter XX of chapter 98 for goods eligible for special tariff benefits under the United States-Caribbean Basin Trade Partnership Act; and (7) chapter 99 for certain steel products.

EFFECTIVE DATE: The corrections made in this notice are effective with respect to articles entered, or withdrawn from warehouse for consumption, on or after the dates provided in the annex sections.

FOR FURTHER INFORMATION CONTACT: Katharine J. Mueller, Office of the United States Trade Representative, Room 223, 600 17th St., NW., Washington, DC 20508. The telephone number is (202) 395-3581.

SUPPLEMENTARY INFORMATION: Presidential Proclamation 7515 (December 18, 2001) modified the HTS, pursuant to section 1206(a) of the Omnibus Trade and Competitiveness Act of 1988 (19 U.S.C. 3006(a)), to reflect in the HTS the amendments made to the International Convention on the Harmonized Commodity Description and Coding System. Conforming modifications in the heading-specific rules of origin under the NAFTA were proclaimed in order to continue to accord the previously agreed tariff treatment to originating goods of Canada and of Mexico. In modifying these rules, which are enumerated in HTS general note 12(t), a tariff classification rule applicable to goods falling in certain subheadings of heading 3401 was inadvertently deleted.

Presidential Proclamation 6763 (December 23, 1994) implemented the trade agreements resulting from the Uruguay Round of Multilateral Trade Negotiations (60 FR 1007), including the tariff treatment that was necessary or appropriate to carry out Schedule XX-United States of America, annexed to the Marrakesh Protocol to the General Agreement on Tariffs and Trade. Among the provisions created in Section A of the Annex to that proclamation was subheading 2916.31.05, covering p-Sulfobenzoic acid, potassium salt. Because that chemical does not properly fall under the immediately superior text “benzoic acid and its salts,” it cannot receive the previously agreed tariff treatment contained in Schedule XX, and the product is being added to an appropriate subheading under heading 2916 so that such tariff treatment can be accorded.

On December 31, 2002, the USTR published a Federal Register notice (67 FR 79954) making several technical corrections, including changes to (1) subheadings in chapters 42, 46, 61, 62 of the HTS with respect to goods of beneficiary countries of the Andean Trade Preference Act to remedy technical errors introduced in Presidential Proclamation 7616 of October 31, 2002, implementing the preferential tariff treatment authorized by the Andean Trade Promotion and Drug Eradication Act; (2) subheadings in chapter 64 of the HTS with respect to goods of Jordan to remedy technical errors introduced in Presidential Proclamation 7512 of December 7, 2001, implementing the Agreement between the United States of America and the Hashemite Kingdom of Jordan on the Establishment of a Free Trade Area. These corrections were intended to ensure that the intended tariff treatment was provided.

Since the publication of this Federal Register notice, it has come to the attention of USTR that the technical correction made with respect to the one of the chapter 42 subheadings was incorrectly stated, so that the intended modification to the tariff schedule was not made. Further, two of the chapter 64 subheadings were incorrectly stated; HTS subheadings 6404.10.30 and 6404.10.35, which do not exist, were listed, rather than the correct HTS subheadings 6406.10.30 and 6406.10.35.

Presidential Proclamation 7626 (November 13, 2002) implemented modifications in the preferential tariff treatment provided under provisions of the Caribbean Basin Economic Recovery Act, pursuant to the United States-Caribbean Basin Trade Partnership Act, and of the African Growth and Opportunity Act. For each program, a conforming change to note 3(b) of the subchapter notes was inadvertently omitted.

Presidential Proclamation 7529 (March 5, 2002) implemented additional tariffs and tariff-rate quotas on certain steel products, and provided exemptions for products of certain countries and exclusions for particular products of a type otherwise covered by the tariffs or TRQs.

Additional product exclusions were established in a notice issued by the USTR and published in the Federal Register on March 31, 2003 (68 FR 15494). A conforming change included in that notice inadvertently contained errors in adding reference to new HTS provisions established to implement certain product exclusions.

Proclamation 6969 authorized the USTR to exercise the authority provided to the President under section 604 of the Trade Act of 1974 (19 U.S.C. 2483) to embody rectifications, technical or conforming changes, or similar modifications in the HTS. Under authority vested in the USTR by Proclamation 6969, the rectifications, technical and conforming changes, and similar modifications set forth below shall be embodied in the HTS with respect to goods entered, or withdrawn from warehouse for consumption, on or after the date noted.

Accordingly, the HTS is modified as provided in the annex to this notice, effective with respect to gods entered, or withdrawn from warehouse for consumption, on or after the dates. provided therein.

Robert B. Zoellick,
United States Trade Representative.

Annex

1. Effective with respect to goods entered, or withdrawn from warehouse for consumption, on or after January 10, 2002, general note 12(t) is modified by redesignating tariff classification rule 1 (as inserted by Proclamation 7515) as rule 1A, and by inserting in numerical sequence the following tariff classification rule immediately below the side heading which reads “Chapter 34”:

“1. (A) A change to subheadings 3401.11 through 3401.20 from any other heading; or

(B) A change to subheadings 3401.11 through 3401.20 from any other subheading within heading 3401, whether or not there is also a change from any other heading, provided there is a regional value content of not less than:

(1) 65 percent where the transaction value method is used, or

(2) 50 percent where the net cost method is used.”

2. Effective with respect to goods entered, or withdrawn from warehouse for consumption, on or after January 1, 1995 and prior to the date that is fifteen days after the date of publication of this notice in the Federal Register, the entries of which are unliquidated on the latter date, and effective with respect to goods entered, or withdrawn from warehouse for consumption, on or after the date that is fifteen days after the date of publication of this notice in the Federal Register, heading 2916 of the HTS is modified as follows:

(A) The superior text appearing immediately below that of subheading 2916.31 and reading “Benzoic acid and its salts:” and subheadings 2916.31.05 and 2916.31.15 are deleted, and the following new subheading is inserted in numerical sequence, with its article description at the same level of indentation as the immediately superior text “Other:” to subheading 2916.31.20, with the material inserted in the HTS in the columns entitled “Heading/Subheading”, “Article Description”, “Rates of Duty 1 General”, “Rates of Duty 1 Special” and “Rates of Duty 2”:

| [Unsaturated...:]
| [Aromatic...:]
[2916.31] | [Benzoic...:]
“2916.31.10 | Benzoic acid and its salts | 6.5% | Free (A*,CA,E,IL,J,MX) 1.6% (JO) | 15.4¢/kg+40%”

Conforming changes: General note 4(d) is modified by deleting “2916.31.15 India” and by inserting in lieu thereof “2916.31.10 India”.

(B) Subheading 2916.31.10, as established in subdivision (A) above, shall be accorded all staged duty reductions previously proclaimed for subheading 2916.31.15.

(C) Subheading 2916.39.05 is redesignated as 2916.39.04 and its article description is modified to read as follows, at the same level of indentation:

“m-Chloroperoxybenzoic acid; and p-Sulfobenzoic acid, potassium salt”

3. Effective with respect to goods entered, or withdrawn from warehouse for consumption, on or after August 6, 2002, for HTS subheading 4202.32.80, the Rates of Duty 1-Special subcolumn is modified by deleting the rate of duty and the following symbol “J” parentheses.

4. Effective with respect to goods of Jordan entered, or withdrawn from warehouse for consumption, on or after December 17, 2001, for HTS subheadings 6406.10.30 and 6406.10.35, the expression “¢kg” is deleted at each occurrence from the Rates of Duty 1-Special subcolumn for the duty rate followed by the symbol “JO” in parentheses and “¢pr.” is inserted in lieu thereof; and such modifications shall likewise be made in the years 2003 through 2010, inclusive, for such special duty rate for goods of Jordan.

5. Effective with respect to goods entered, or withdrawn from warehouse for consumption, on or after November 13, 2002, Note 3(b) to subchapter XIX of chapter 98 of the HTS is amended by deleting the comma after the phrase “subheading 9819.11.06” and inserting the phrase “and 9819.11.30,”.

6. Effective with respect to goods entered, or withdrawn from warehouse for consumption, on or after November 13, 2002, Note 3(b) to subchapter XX of chapter 98 of the HTS is amended by deleting the phrase “9820.11.06 and 9820.11.18”, and inserting in lieu thereof, ”9820.11.06, 9820.11.18, and 9820.11.33,”.

7. Effective with respect to goods entered, or withdrawn from warehouse for consumption, on or after 12:01 a.m. EST, on March 20, 2003, subheading 9903.74.01 is modified by deleting “9903.77.78” and by inserting in lieu thereof “9903.77.84”, and by inserting at the end of the article description “and 9903.82.10 through 9903.82.17”.

[FR Doc. 03-9221 Filed 4-14-03; 8:45 am]

BILLING CODE 3190-01-M